DEPARTMENT OF TRANSPORTATION

Federal Aviation Administration

Aviation Rulemaking Advisory Committee (ARAC); Notice of Reestablishment

AGENCY: Federal Aviation Administration (FAA), DOT.

ACTION: Aviation Rulemaking Advisory Committee (ARAC); Notice of reestablishment.

SUMMARY: Pursuant to section 14(a)(2)(A) of the Federal Advisory Committee Act, and in accordance with section 102-3.65, title 41 of the Code of Federal Regulations, the FAA gives notice it is re-establishing the Aviation Rulemaking Advisory Committee (ARAC) for a 2-year period. The Committee's primary purpose is to provide the public with an earlier opportunity to participate in the FAA's rulemaking process. It will continue to operate in accordance with the rules of the Federal Advisory Committee Act and the Department of Transportation, FAA Committee Management Order (1110.30C). This notice replaces the notice published on April 4, 2008 (73 FR 18602).

For further information about the ARAC, please contact Ms. Gerri Robinson, FAA Office of Rulemaking, 800 Independence Avenue, SW., Washington, DC 20591; telephone number: 202-267-9678.

Issued in Washington, DC, on September 3, 2008.
Pamela A. Hamilton-Powell,
Executive Director, Aviation Rulemaking Advisory Committee.

[FR Doc. E8-20745 Filed 9-3-08; 4:15 pm]

BILLING CODE 4910-13-P